DEPARTMENT OF JUSTICE

[OMB Number 1105-0086]

Agency Information Collection Activities; Proposed eCollection eComments Requested; Revision of and Renewal of Previously Approved Collection; Comments Requested; Electronic Applications for the Attorney Student Loan Repayment Program

AGENCY: Office of Attorney Recruitment and Management, Department of Justice.

ACTION: 30-Day notice.

SUMMARY: The Department of Justice (DOJ), Justice Management Division, Office of Attorney Recruitment and Management (OARM), will be submitting the following information collection request to the Office of Management and Budget (OMB) for review and approval in accordance with the Paperwork Reduction Act of 1995.

DATES: The Department of Justice encourages public comment and will accept input until January 16, 2020.

FOR FURTHER INFORMATION CONTACT: If you have additional comments, especially on the estimated public burden or associated response time, suggestions, or need a copy of the proposed information collection instrument with instructions or additional information, please contact Deana Willis, Assistant Director, Office of Attorney Recruitment and Management, 450 5th Street NW, Suite 10200, Washington, DC 20530; Deana.Willis@usdoj.gov; (202) 514-8902. Written comments and/or suggestions can also be sent to the Office of Management and Budget, Office of Information and Regulatory Affairs, Attention Department of Justice Desk Officer, Washington, DC 20503 or sent to OIRA_submissions@omb.eop.gov.

SUPPLEMENTARY INFORMATION: Written comments and/or suggestions from the public and affected agencies concerning the proposed collection of information are encouraged. Your comments should address one or more of the following four points:

(1) Evaluate whether the proposed collection of information is necessary for the proper performance of the functions of the Office of Attorney Recruitment and Management, including whether the information will have practical utility;

(2) Evaluate the accuracy of the agencies estimate of the burden of the proposed collection of information, including the validity of the methodology and assumptions used;

(3) Evaluate whether, and if so, how, the quality, utility, and clarity of the information to be collected can be enhanced; and

(4) Minimize the burden of the collection of information on those who are to respond, including through the use of appropriate automated, electronic, mechanical, or other technological collection techniques or other forms of information technology, e.g., permitting electronic submission of responses.

Overview of This Information Collection

1. Type of information collection: Renewal of a Currently Approved Collection.

2. The title of the form/collection: Electronic Applications for the Attorney Student Loan Repayment Program.

3. The agency form number, if any, and the applicable component of the department sponsoring the collection: There is no agency form number for this collection. The applicable component within the Department of Justice is the Office of Attorney Recruitment and Management, Justice Management Division, U.S. Department of Justice.

4. Affected public who will be asked or required to respond, as well as a brief abstract: Primary: Individuals or households. Other: None. The Department of Justice Attorney Student Loan Repayment Program (ASLRP) is an agency recruitment and retention incentive program based on 5 U.S.C. 5379, as amended, and 5 CFR part 537. Individuals currently employed as a DOJ attorney and incoming hires for attorney positions within the Department may request consideration for the ASLRP. The Department selects new participants during an annual open season each spring and renews current beneficiaries (DOJ employees) who remain qualified for these benefits, subject to availability of funds. There are two application forms—one for new requests, and the other for renewal requests. A justification form (applicable to new requests only) and a loan continuation form complete the collection. The “new request” form is submitted voluntarily, by current DOJ employees as well as by incoming DOJ attorney hires who, if selected, do not receive benefits until they are a DOJ employee. Renewal requests are submitted by only by current DOJ employees—no non-employees would qualify.

5. An estimate of the total number of respondents and the amount of time estimated for an average respondent to respond/reply: The Department anticipates about 275 respondents annually will complete the new request form and justification form and apply for participation in the ASLRP. Of those, an average of 10 or less are incoming attorney hires who have not yet entered on duty with the DOJ. In addition, each year the Department expects to receive approximately 110 applications from current employees (DOJ attorneys) requesting renewal of the benefits they received in the preceding year. It is estimated that each new request (including justification) will take two (2) hours to complete, and each renewal request approximately 20 minutes to complete.

6. An estimate of the total public burden (in hours) associated with the collection:

a. The estimated burden associated with this collection is 586 hours, 40 minutes. It is estimated that new applicants will take 2 hours to complete the request form and justification and that previously selected recipients requesting continued funding will take 20 minutes to complete a renewal form. The burden hours for collecting respondent data, 586 hours, 40 minutes, are calculated as follows: 275 new respondents × 2 hours = 550 hours, plus 110 renewing respondents × 20 minutes = 36 hours, 40 minutes.

b. An estimate of the public burden focusing only incoming hires and excluding current DOJ employees is 20 hours, calculated as follows: 10 new respondents (incoming hires) × 2 hours = 20 hours.

If additional information is required, please contact: Melody Braswell, Department Clearance Officer, U.S. Department of Justice, Justice Management Division, Policy and Planning Staff, Two Constitution Square, 145 N Street NE, Room 3E.405B, Washington, DC 20530.

Dated: December 12, 2019.
Melody Braswell,
Department Clearance Officer for PRA, U.S. Department of Justice.

[FR Doc. 2019-27123 Filed 12-16-19; 8:45 am]

BILLING CODE 4410-PF-P